DEPARTMENT OF STATE

[Public Notice 7849]

60-Day Notice of Proposed Information Collection: DS-3032 Choice of Address and Agent for Immigrant Visa Applicants, 1405-0126

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Choice of Address and Agent for Immigrant Visa Applicants.

• OMB Control Number: 1405-0126.

• Type of Request: Extension.

• Originating Office: CA/VO/L/R.

• Form Number: DS-3032.

• Respondents: Immigrant Visa Applicants.

• Estimated Number of Respondents: 330,000.

• Estimated Number of Responses: 330,000.

• Average Hours per Response: 10 Minutes.

• Total Estimated Burden: 55,000.

• Frequency: Once per respondent.

• Obligation to Respond: Required to Obtain Benefits.

DATES: The Department will accept comments from the public up to 60 days from April 18, 2012.

ADDRESSES: You may submit comments by any of the following methods:

• Web: Persons with access to the Internet may view and comment on this notice by going to the regulations.gov Web site at http://www.regulations.gov. You can search for the document by: selecting “Notice” under Document Type, entering the Public Notice number as the “Keyword or ID”, checking the “Open for Comment” box, and then click “Search”. If necessary, use the “Narrow by Agency” option on the Results page.

• Mail (paper or CD-ROM submissions): Chief, Legislation and Regulations Division, Visa Services—DS-158, 2401 E Street NW., Washington DC 20520-0106.

You must include the DS form number, information collection title, and OMB control number in any correspondence.

FOR FURTHER INFORMATION CONTACT: Direct requests for additional information regarding the collection listed in this notice, including requests for copies of the proposed information collection and supporting documents, to Sydney Taylor of the Office of Visa Services, U.S. Department of State, 2401 E, Street NW. L-630, Washington, DC who may be reached at taylors2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Form DS-3032 permits the principal applicant to choose an agent to receive mailings from NVC and assist in the paperwork or paying required fees. The applicant is not required to choose an agent and may have all mailings sent to an address abroad. The applicant's file will be held at NVC until the signed form is returned.

Methodology

Form DS-3032 is mailed to the principal applicant once the petition has been approved by DHS and NVC has determined that the case is current and active for processing. The applicant submits the form to NVC via the mail only upon the request of NVC to do so.

Dated: April 11, 2012.
Edward Ramotowski,
Managing Director, Visa Services, Bureau of Consular Affairs, Department of State.

[FR Doc. 2012-9329 Filed 4-17-12; 8:45 am]

BILLING CODE 4710-06-P